ENVIRONMENTAL PROTECTION AGENCY

40 CFR Part 261

[FRL-7535-9]

Hazardous Waste Management System; Identification and Listing of Hazardous Waste; Withdrawal of Final Exclusion

AGENCY: Environmental Protection Agency.

ACTION: Withdrawal of direct final rule.

SUMMARY: Because the United States Environmental Protection Agency (EPA) received adverse comment, we are withdrawing the direct final rule for Identification and Listing of Hazardous Waste; Final Exclusion, delisting petition from Bekeart Steel, Dyersburg, Tennessee. We published the direct final rule on June 2, 2003, (68 FR 32645-32656). We stated in that direct final rule that if we received adverse comment by July 17, 2003, we would publish a timely withdrawal in the Federal Register. We subsequently received adverse comment on that direct final rule. EPA is withdrawing the direct final rule on the delisting petition submitted by Bekaert Steel, Inc, for the Dyersburg, Tennessee facility.

DATES: The direct final rule published at 68 FR 32645, June 2, 2003, is withdrawn as of July 25, 2003.

FOR FURTHER INFORMATION CONTACT: For further information concerning this withdrawal of direct final rule, please contact Ms. Jewell Grubbs, Chief, RCRA Enforcement and Compliance Branch, (Mail Code 4WD-RCRA), U.S. Environmental Protection Agency, Region 4, Sam Nunn Atlanta Federal Center, 61 Forsyth Street, SW., Atlanta, Georgia 30303, (404) 562-8568, or call, toll free, (800) 241-1754, and leave a message, with your name and phone number, for Ms. Jewell Grubbs to return your call. Questions may also be e-mailed to Ms. Jewell Grubbs at Grubbs.jewell@epa.gov.

SUPPLEMENTARY INFORMATION: EPA published a Direct Final Rule on June 2, 2003, granting the delisting petition submitted by Bekaert Steel, Inc. (Bekaert) for an F006 waste water treatment sludge from electroplating operations, where Bekaert manufactured copper plated steel cord for the automobile tire industry. The rule would have become effective on August 1, 2003, without further notice, unless EPA received adverse comment by July 17, 2003. The direct final rule 45-day public comment period explained that if we received adverse comments, we would withdraw the relevant direct final action.

We received adverse comment and are therefore withdrawing the direct final rule approving Bekaert's delisting petition. Commentors argued that EPA could not issue a delisting petition based on another identical facility's data, and that the regulations specifically require the delisting to be based on site specific information. Therefore, for the petition to be complete Bekaert should submit at a minimum, three additional data points from the Dyersburg, Tennessee facility to support the initial delisting petition. The three additional data points must be collected in compliance with 40 CFR 260.22, and be sufficient to demonstrate the temporal and spatial variability of the petitioned waste. EPA shall review the data submitted and shall publish a proposed rule to provide public notice on EPA's proposed decision and collect comments on the proposed decision.

List of Subjects in 40 CFR Part 261

Environmental protection, Hazardous waste, Recycling, Reporting and recordkeeping requirements.

Authority: Sec. 3001(f) RCRA, 42 U.S.C. 6921(f).

Dated: July 18, 2003.
Jewell Harper,
Acting Director, Waste Management Division.

[FR Doc. 03-19005 Filed 7-24-03; 8:45 am]

BILLING CODE 6560-50-P